DEPARTMENT OF HEALTH AND HUMAN SERVICES

National Institutes of Health

Government-Owned Inventions; Availability for Licensing

AGENCY: National Institutes of Health, Public Health Service, HHS.

ACTION: Notice.

SUMMARY: The invention listed below is owned by an agency of the U.S. Government and is available for licensing in the U.S. in accordance with 35 U.S.C. 207 to achieve expeditious commercialization of results of federally-funded research and development. Foreign patent applications are filed on selected inventions to extend market coverage for companies and may also be available for licensing.

ADDRESSES: Licensing information and copies of the U.S. patent application listed below may be obtained by writing to the indicated licensing contact at the Office of Technology Transfer, National Institutes of Health, 6011 Executive Boulevard, Suite 325, Rockville, Maryland 20852-3804; telephone: 301-496-7057; fax: 301-402-0220. A signed Confidential Disclosure Agreement will be required to receive copies of the patent application.

Automated Identification of Ileocecal Valve

Ronald Summers (NIHCC), Jianhua Yao (NIHCC), Daniel C. Johnson (Mayo Clinic); U.S. Provisional Application filed 10 Oct 2003 (DHHS Reference No. E-174-2003/0-US-01); Licensing Contact: Michael Shmilovich; 301-435-5019; shmilovm@mail.nih.gov.

Available for licensing is a system and software that analyzes digital representations of the colon and eliminates the occurrence of false positive colonic polyps. For example, in a scenario in which a list of polyp candidates is analyzed, the ileocecal valve can be removed from the list. Because the ileocecal valve is a normal structure and not a polyp (i.e., a false positive), removing the ileocecal valve from the list of polyp candidates increases the usefulness and specificity of computer aided polyp detection techniques. Characteristics of a digital representation of at least a portion of a colon can be compared with paradigmatic characteristics of digital representations of ileocecal valves. Based on determining that the digital representation has the characteristics of an ileocecal valve, action can be taken. The digital representation can be removed from a list of polyp candidates or depicted distinctively in a visual depiction. Characteristics can include density, volume, intensity, attenuation, location within the colon, and the like.

Novel Non-Nucleoside Agents for the Inhibition of HIV Reverse Transcriptase for the Treatment of HIV-1

Christopher A. Michejda, Marshall Morningstar, Thomas Roth (NCI); U.S. Patent 6,369,235 issued 09 Apr 2002 (DHHS Reference No. E-076-1997/1-US-01); U.S. Patent Application No. 10/119,634 filed 09 Apr 2002 (DHHS Reference No. E-076-1997/1-US-02); Licensing Contact: Sally Hu; 301-435-5606; hus@mail.nih.gov.

Despite recent developments in drug and compound design to combat the human immunodeficiency virus (HIV), there remains a need for a potent, non-toxic compound that is effective against wild type reverse transcriptase (RT) as well as RTs that have undergone mutations and thereby become refractory to commonly used anti-HIV compounds. There are two major classes of RT inhibitors. The first comprises nucleoside analogues, which are not specific for HIV-RT and are incorporated into cellular DNA by host DNA polymerases. Nucleoside analogues can cause serious side effects and have resulted in the emergence of drug resistance viral strains that contain mutations in their RT. The second major class of RT inhibitors comprises non-nucleoside RT inhibitors (NNRTIs) that do not act as DNA chain terminators and are highly specific for HIV-RT. This technology is a novel class of NNRTIs (substituted benzimidazoles) effective in the inhibition of HIV-RT wild type as well as against variant HIV strains resistant to many non-nucleoside inhibitors. These NNRTIs are highly specific for HIV-1 RT and do not inhibit normal cellular polymerases, resulting in lower cytotoxicity and fewer side effects that the nucleoside analogues, such AZT. This novel class of compounds could significantly improve the treatment of HIV by increasing compliance with therapy.

Dated: November 6, 2003.
Steven M. Ferguson,
Director, Division of Technology Development and Transfer, Office of Technology Transfer, National Institutes of Health.

[FR Doc. 03-28658 Filed 11-14-03; 8:45 am]

BILLING CODE 4140-01-P